SECURITIES AND EXCHANGE COMMISSION

[Release No. 34-68533; File No. SR-NYSE-2012-74]

Self-Regulatory Organizations; New York Stock Exchange LLC; Notice of Filing and Immediate Effectiveness of Proposed Rule Change Extending the Bond Trading License and the Bond Liquidity Provider Pilot Program

December 21, 2012.

Correction

In notice document 2012-31260, appearing on pages 77166-77167 in the issue of Monday, December 31, 2012, make the following correction:

On page 77166, in the second column, the Release No. and the File No., are corrected to read as set forth above.

[FR Doc. C1-2012-31260 Filed 1-7-13; 8:45 am]

BILLING CODE 1505-01-D